DEPARTMENT OF AGRICULTURE

Farm Service Agency

7 CFR Part 762

RIN 0560-AH41

Guaranteed Loan Fees

AGENCY: Farm Service Agency, USDA.

ACTION: Proposed rule; correction and extension of comment period.

SUMMARY: This document corrects the telephone number for the facsimile machine (“fax”) for submission of public comments on the proposed rule entitled Guaranteed Loan Fees published May 15, 2006 (71 FR 27978-27980) and extends the comment period. The original comment period for the proposed rule closed on July 14, 2006, and FSA is extending it until August 4, 2006. Respondents who sent comments to the earlier fax number are encouraged to contact the person named below to find out if their comments were received and re-submit them to fax number below if necessary.

FOR FURTHER INFORMATION CONTACT: Galen VanVleet at (202) 720-3889. All comments and supporting documents on this rule may be viewed by contacting the information contact. All comments received, including names and addresses, will become a matter of public record.

SUPPLEMENTARY INFORMATION: (1) This document corrects the proposed rule entitled Guaranteed Loan Fees published May 15, 2006 (71 FR 27978-27980). Due to a drafting error the telephone number for the fax machine for submission of comments was incorrect. Although the machine of the person sending the comment would have indicated that the transmission failed, and a correct number could have been obtained by calling the agency contact, FSA has decided to correct the proposed rule and extend the comment period to ensure that all parties who wish to comment on the proposed rule are provided the maximum opportunity to do so. Accordingly, in the proposed rule, in the first column, in the ADDRESSES section, the fax number shown, “202-690-6797” is corrected to read “202-720-6797.”

(2) As a result of the correction, this document also extends the comment period until August 4, 2006, in order to ensure that the public can submit timely comments.

Signed in Washington, DC, on July 21, 2006.
Glen L. Keppy,
Acting Administrator, Farm Service Agency.

[FR Doc. E6-11979 Filed 7-26-06; 8:45 am]

BILLING CODE 3410-05-P